Proclamation 7556 of May 6, 2002

National Tourism Week, 2002

By the President of the United States of America

A Proclamation

For hundreds of years, people across our Nation and around the world have enjoyed traveling across America to visit our magnificent cities, parks, museums, and countless other natural, historic, and cultural sites. Our land provides endless opportunities to learn as well as to enjoy our Nation's immense variety of attractions.

The travel and tourism industry represents a vital part of the American economy. The Department of Commerce estimates that in 2001 the travel and tourism industry generated more than $90 billion in export revenue and provided a $7.7 billion balance of trade surplus. Preliminary numbers show that last year, the industry created approximately $545 billion in total travel expenditures and provided $94 billion in tax revenue to local, State, and Federal governments. As one of our Nation's largest employers, travel and tourism supports more than 7 million jobs.

During National Tourism Week 2002, we recognize the significance of this important industry to our economy and for the lives of all Americans. In the aftermath of the tragic attacks of September 11, 2001, the travel and tourism industry contributed to our country's efforts to persevere through this challenging time. As we have encouraged people to resume the regular course of their lives, Americans and visitors from around the world have responded by traveling to and enjoying the beauty of our Nation.

During this observance, I urge all Americans and people around the globe to travel to and within our country to experience the hospitality and quality of our Nation's great destinations.

NOW, THEREFORE, I, GEORGE W. BUSH, President of the United States of America, by virtue of the authority vested in me by the Constitution and laws of the United States, do hereby proclaim May 5-11, 2002, as National Tourism Week. In recognition of the significance of the travel and tourism industry in the lives of citizens of our Nation and to visitors from abroad, I call upon all Americans to mark this observance with activities that highlight this important industry.

IN WITNESS WHEREOF, I have hereunto set my hand this sixth day of May, in the year of our Lord two thousand two, and of the Independence of the United States of America the two hundred and twenty-sixth.

B

[FR Doc. 02-11781

Filed 5-8-02; 8:45 am]

Billing code 3195-01-P